CONSUMER PRODUCT SAFETY COMMISSION

16 CFR Part 1210

Safety Standard for Cigarette Lighters; Adjusted Customs Value for Cigarette Lighters

AGENCY: Consumer Product Safety Commission.

ACTION: Final rule.

SUMMARY: The Commission has a safety standard requiring that disposable and novelty lighters meet specified requirements for child-resistance. The rule defines disposable lighters, in part, as refillable lighters that use butane or similar fuels and have a Customs Value or ex-factory price below a threshold value (initially set at $2.00). The standard provides that the initial $2.00 value adjusts every 5 years for inflation as measured by the percentage change since June 1993 in the appropriate Wholesale Price Index for which cigarette lighters are a part, as published by the Department of Labor's Bureau of Labor Statistics (“BLS”) (now referred to as the Producer Price Index for Miscellaneous Fabricated Products). The adjustment is rounded to the nearest $0.25 increment. With this notice, the Commission adds to the rule a statement that the import value adjusted to $2.25 when the June 2003 Index was finalized by BLS in November 2003. This information was also conveyed to the public by a Commission press release issued January 5, 2004.

This notice also makes a technical correction to change the term “Wholesale Price Index” to “Producer Price Index for Miscellaneous Fabricated Products.”

DATES: This rule is effective April 14, 2004.

FOR FURTHER INFORMATION CONTACT: Joe Vogel, Office of Compliance, Consumer Product Safety Commission, Washington, DC 20207; telephone (301) 504-7599; e-mail jvogel@cpsc.gov.

SUPPLEMENTARY INFORMATION:

Background

In 1993, the Commission issued a standard that required disposable and novelty lighters to meet certain requirements for child-resistance. The standard defines disposable lighters as those that either are (1) non-refillable or (2) use butane or similar fuels and have “a Customs Valuation or ex-factory price under $2.00, as adjusted every 5 years, to the nearest $0.25, in accordance with the percentage changes in the monthly Wholesale Price Index from June 1993.” 16 CFR 1210.2(b)(2)(ii).

Thus, the rule provides for the $2.00 threshold to adjust in accordance with inflation. The rule provides for adjustment to be rounded to the nearest twenty-five cents. Adjustment did not occur in 1998 because change in the Index since June 1993 was not sufficient to warrant an adjustment.

The name of the Wholesale Price Index has changed to the Producer Price Index. The Index that includes cigarette lighters is the Producer Price Index for Miscellaneous Fabricated Products (hereafter “the Index”). The Bureau of Labor Statistics generally releases the Index figures for the month of June in July, and the figures are subject to revision for four months.

Adjustment to $2.25 occurred as of November 2003. This figure is based on an 8% increase since June 1993 in the Index rounded to the nearest twenty-five cents.

The staff was concerned that there could be confusion about the exact amount and timing of the increase without specific notice from the Commission. So, on January 5, 2004, the Commission issued a press release notifying the public of the change in the price of lighters included in the cigarette lighter standard due to the adjustment and indicating that the adjustment would be enforced prospectively from March 1, 2004 (available on CPSC's Web site at

http://www.cpsc.gov/cpscpub/prerel/prhtm104/04060.html). To provide enhanced notice to those subject to the standard of this and any future adjustments, the Commission is adding a statement to the standard that states the adjusted $2.25 value.

This notice also makes a technical correction to change the term “Wholesale Price Index” to “Producer Price Index” and notes that the specific Producer Price Index currently applicable to cigarette lighters is the Producer Price Index for Miscellaneous Fabricated Products.

The Administrative Procedure Act

Section 553(b)(3)(B) of the Administrative Procedure Act (“APA”) authorizes an agency to dispense with notice and comment procedures when the agency, for good cause, finds that those procedures are “impracticable, unnecessary, or contrary to the public interest.” This amendment adds a statement to inform the public of an adjustment that has occurred automatically according to the terms of the cigarette lighter regulation. Accordingly, the Commission finds that notice and comment is unnecessary.

The APA also authorizes an agency, “for good cause found and published with the rule,” to dispense with the otherwise applicable requirement that a rule be published in the Federal Register at least 30 days before its effective date. 5 U.S.C. 553(d)(3). The Commission hereby finds that a 30 day delay of the effective date is unnecessary because this amendment informs the public of an adjustment that has occurred automatically in accordance with the requirements of the cigarette lighter standard.

List of Subjects in 16 CFR Part 1500

Cigarette lighters, Consumer protection, Fire prevention, Hazardous materials, Infants and children, Labeling, Packaging and containers, Reporting and recordkeeping requirements.

Accordingly, 16 CFR part 1210 is amended as follows:

PART 1210—SAFETY STANDARD FOR CIGARETTE LIGHTERS

1. The authority for part 1210 continues to read as follows:

Authority: 15 U.S.C. 2056, 2058, 2079(d).

2. Revise § 1210.2(b)(2)(ii) to read as follows:

§ 1210.2 Definitions.

* * * * *

(b) * * *

(2) * * *

(ii) It has a Customs Valuation or ex-factory price under $2.00, as adjusted every 5 years, to the nearest $0.25, in accordance with the percentage changes in the appropriate monthly Producer Price Index (Producer Price Index for Miscellaneous Fabricated Products) from June 1993. The adjusted figure, based on the change in that Index since June 1993 as finalized in November 2003, is $2.25.

Dated: April 6, 2004.
Todd Stevenson,
Secretary, Consumer Product Safety Commission.

[FR Doc. 04-8400 Filed 4-13-04; 8:45 am]

BILLING CODE 6355-01-P